SMALL BUSINESS ADMINISTRATION

[Declaration of Disaster # 3653]

State of Georgia

Charlton County and the contiguous counties of Brantley, Camden, and Ware in the State of Georgia; and Baker and Nassau Counties in the State of Florida constitute a disaster area as a result of damages caused by heavy rains and severe localized flooding from Tropical Storm Jeanne that occurred on September 25 and September 26, 2004. Applications for loans for physical damage as a result of the disaster may be filed until the close of business on January 18, 2005, and for economic injury until the close of business on August 16, 2005, at the address listed below or other locally announced locations: U.S. Small Business Administration, Disaster Area 2 Office, One Baltimore Place, Suite 300, Atlanta, GA 30308.

The interest rates are:

| Percent
For Physical Damage:
Homeowners with Credit Available Elsewhere | 6.375
Homeowners Without Credit Available Elsewhere | 3.187
Businesses With Credit Available Elsewhere | 5.800
Businesses and Non-Profit Organizations Without Credit Available Elsewhere | 2.900
Others (Including Non-Profit Organizations) with Credit Available Elsewhere | 4.875
For Economic Injury:
Businesses and Small Agricultural Cooperatives Without Credit Available Elsewhere | 2.900

The numbers assigned to this disaster for physical damage are 365306 for Georgia and 365406 for Florida. The numbers assigned to this disaster for economic injury are 9AJ800 for Georgia, and 9AJ900 for Florida.

(Catalog of Federal Domestic Assistance Program Nos. 59002 and 59008.)

Dated: November 16, 2004.
Hector V. Barreto,
Administrator.

[FR Doc. 04-26015 Filed 11-23-04; 8:45 am]

BILLING CODE 8025-01-P